DEPARTMENT OF COMMERCE

International Trade Administration

[A-823-810]

Solid Agricultural Grade Ammonium Nitrate From Ukraine: Final Results of Sunset Review and Revocation of Order

AGENCY: Enforcement and Compliance, International Trade Administration, Department of Commerce.

SUMMARY: On May 1, 2018, the Department of Commerce (Commerce) initiated the sunset review of the antidumping duty order on solid agricultural grade ammonium nitrate from Ukraine. Because the domestic interested parties did not participate in this sunset review, Commerce is revoking this antidumping duty order.

FOR FURTHER INFORMATION CONTACT: Robert Brown, AD/CVD Operations, Enforcement and Compliance, International Trade Administration, U.S. Department of Commerce, 1401 Constitution Avenue NW, Washington, DC 20230; telephone (202) 482-3702.

SUPPLEMENTARY INFORMATION: On September 12, 2001, Commerce issued an antidumping duty order on solid grade ammonium nitrate from Ukraine.¹ On June 12, 2013, Commerce published its most recent continuation of the order.² On May 1, 2018, Commerce initiated a sunset review of this order.³

¹ See Antidumping Duty Order: Solid Agricultural Grade Ammonium Nitrate from Ukraine, 66 FR 47451 (September 12, 2001).

² See Solid Agricultural Grade Ammonium Nitrate from Ukraine: Continuation of Antidumping Duty Order, 78 FR 35258 (June 12, 2013).

³ See Initiation of Five-Year (“Sunset”) Review, 83 FR 19051 (May 1, 2018).

We did not receive a notice of intent to participate from domestic interested parties in this sunset review. As a result, in accordance with 19 CFR 351.218(d)(1)(iii)(A), Commerce determined that no domestic interested party intends to participate in the sunset review, and on May 18, 2018, notified the International Trade Commission, in writing, that we intended to issue a final determination revoking this antidumping duty order.⁴

⁴ See Letter to Director, Office of Investigations, International Trade Commission, “Sunset Reviews Initiated on May 1, 2018,” dated May 18, 2018.

Scope of the Order: The products covered by this antidumping duty order are solid, fertilizer grade ammonium nitrate (“ammonium nitrate” or “subject merchandise”) products, whether prilled, granular or in other solid form, with or without additives or coating, and with a bulk density equal to or greater than 53 pounds per cubic foot. Specifically excluded from the scope is solid ammonium nitrate with a bulk density less than 53 pounds per cubic foot (commonly referred to as industrial or explosive grade ammonium nitrate). The subject merchandise is currently classifiable under subheading 3102.30.00.00 of the Harmonized Tariff Schedule of the United States (“HTSUS”). Although HTSUS subheadings are provided for convenience and customs purposes, the written description of the merchandise is dispositive.

Determination To Revoke: Pursuant to section 751(c)(3)(A) of the Tariff Act of 1930, as amended (the Act) and 19 CFR 351.218(d)(1)(iii)(B)(3), if no domestic interested party files a notice of intent to participate, Commerce shall, within 90 days after the initiation of the review, issue a final determination revoking the order. Because no domestic interested party filed a notice of intent to participate in this sunset review, Commerce finds that no domestic interested party is participating in this sunset review. Therefore, consistent with 19 CFR 351.222(i)(2)(i) and section 751(c)(3)(A) of the Act, we are revoking this antidumping duty order.

Effective Date of Revocation: The effective date of revocation is June 12, 2018, the fifth anniversary of the date of publication in the Federal Register of the most recent notice of continuation of this antidumping duty order. Pursuant to section 751(c)(3)(A) of the Act and 19 CFR 351.222(i)(2)(i), Commerce intends to issue instructions to U.S. Customs and Border Protection, 15 days after the publication of this notice, to terminate the suspension of liquidation of the merchandise subject to this order entered, or withdrawn from warehouse, on or after June 12, 2018. Entries of subject merchandise prior to the effective date of revocation will continue to be subject to suspension of liquidation and antidumping duty deposit requirements. Commerce will complete any pending administrative reviews of this order and will conduct administrative reviews of subject merchandise entered prior to the effective date of revocation in response to appropriately filed requests of review.

This five-year (sunset) review and notice are published in accordance with sections 751(c) and 777(i)(1) of the Act.

Dated: June 12, 2018.
Gary Taverman,
Deputy Assistant Secretary for Antidumping and Countervailing Duty Operations, performing the non-exclusive functions and duties of the Assistant Secretary for Enforcement and Compliance.

[FR Doc. 2018-12995 Filed 6-15-18; 8:45 am]

BILLING CODE 3510-DS-P